DEPARTMENT OF COMMERCE

International Trade Administration

[A-583-824, A-588-836]

Polyvinyl Alcohol From Japan and Taiwan: Postponement of Preliminary Results of Antidumping Duty Administrative Reviews

AGENCY: Import Administration, International Trade Administration, Department of Commerce.

ACTION: Notice of extension of the time limit for the preliminary results in the antidumping duty administrative reviews of the antidumping duty orders on polyvinyl alcohol from Japan and Taiwan.

SUMMARY: The Department of Commerce is extending the time limit for the preliminary results of the antidumping duty administrative reviews of the antidumping duty orders on polyvinyl alcohol from Japan and Taiwan. These reviews cover the period May 1, 1998, through April 30, 1999.

EFFECTIVE DATE: January 21, 2000.

FOR FURTHER INFORMATION CONTACT: Brian Smith or Barbara Wojcik-Betancourt, Import Administration, International Trade Administration, U.S. Department of Commerce, 14th Street and Constitution Avenue, N.W., Washington, D.C. 20230; telephone: (202) 482-1766 or (202) 482-0629, respectively.

Postponement of Preliminary Results of Reviews: The Department of Commerce initiated reviews of the antidumping duty orders on polyvinyl alcohol from Japan and Taiwan on June 21, 1999 (64 FR 35124). The current deadline for the preliminary results in these reviews is January 31, 2000. In accordance with section 751 (a)(3)(A) of the Tariff Act of 1930 (“ the Act”), as amended, we determine that it is not practicable to complete the administrative review of polyvinyl alcohol (“PVA”) from Taiwan and Japan within the original time frame (see January 12, 1999, Memorandum from Richard W. Moreland, Deputy Assistant Secretary for Import Administration to Robert S. LaRussa, Assistant Secretary for Import Administration). Thus, the Department of Commerce is extending the time limit for completion of the preliminary results until May 30, 2000, which is 365 days after the last day of the anniversary month of the order.

We intend to issue the final results within 120 days of the publication of the preliminary results.

Dated: January 12, 2000.
Richard W. Moreland,
Deputy Assistant Secretary for Import Administration.

[FR Doc. 00-1491 Filed 1-20-00; 8:45 am]

BILLING CODE 3510-DS-P